NATIONAL SCIENCE FOUNDATION

Notice of Permit Applications Received Under the Antarctic Conservation Act of 1978

AGENCY: National Science Foundation.

ACTION: Notice of permit applications received under the Antarctic Conservation Act of 1978.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by January 26, 2017. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant, Permit Application: 2017-037, Daniel McGrath, Resident Scientist, Earth Vision Institute, 2334 Broadway St, Suite D, Boulder, CO 80304

Activity for Which Permit Is Requested

Waste management. The applicant requests a permit for waste management activities associated with the continued operation of a network of time-lapse cameras installed in the Antarctic Peninsula region. The applicant will continue to maintain up to 12 cameras (nine currently installed at five visitor sites) with no more than two cameras installed at any one site. Cameras are placed in such a way so as to not disrupt wildlife. Cameras are secured using 6-8 rock bolts drilled into rock outcrops. Each camera is powered by a 10w solar panel and a sealed 12 volt 55 AH gel battery. The batteries are housed in a leak proof plastic case. The cameras will remain deployed for an additional 4 years and will be completely removed (including bolts and power sources) at before the permit expires. Each camera is visited every 1-2 years to retrieve data, make necessary repairs, and remove non-functioning equipment. The Earth Vision Institute has an established collaboration with Lindblad Expeditions for installation and maintenance of the cameras. The cameras are used to measure ice velocity and monitor the calving front of numerous outlet glaciers. The data will help advance scientific knowledge on the mechanics and pace of glacial retreat. Images gained from the cameras will also be used in global outreach campaigns to educate the public about the speed of climate change's impact on the earth.

Location

Neko Harbor, Orne Harbor, Cierva Cove, Brown Bluff, Amsler Island, Western Antarctic Peninsula.

Dates

April 1, 2017-March 31, 2021.

Nadene G. Kennedy,
Polar Coordination Specialist, Division of Polar Programs.

[FR Doc. 2016-31153 Filed 12-23-16; 8:45 am]

BILLING CODE 7555-01-P